Title 3—

The President

Presidential Determination No. 2010-04 of February 3, 2010

Certifications Pursuant to Section 104 of the United States-India Nuclear Cooperation Approval and Nonproliferation Enhancement Act Regarding the Safeguards Agreement Between India and the International Atomic Energy Agency

Memorandum for the Secretary of State

Pursuant to section 104 of the United States-India Nuclear Cooperation Approval and Nonproliferation Enhancement Act (Public Law 110-369), I hereby determine and certify that:

1. The Agreement between the Government of India and the International Atomic Energy Agency for the Application of Safeguards to Civilian Nuclear Facilities, as approved by the Board of Governors of the International Atomic Energy Agency on August 1, 2008 (the “Safeguards Agreement”), has entered into force; and

2. The Government of India has filed a declaration of facilities pursuant to paragraph 13 of the Safeguards Agreement that is not materially inconsistent with the facilities and schedule described in paragraph 14 of the Separation Plan presented in the national parliament of India on May 11, 2006, taking into account the later initiation of safeguards than was anticipated in the Separation Plan.

You are authorized and directed to publish this determination in the Federal Register.

THE WHITE HOUSE,

WASHINGTON, February 3, 2010

[FR Doc. 2010-3386

Filed 2-18-10; 8:45 am]

Billing code 4710-10-P